DEPARTMENT OF LABOR

Employment and Training Administration

[TA-W-80,307]

Comscope, Inc., Catawba Facility, A Subsidiary of the Carlyle Group Including On-Site Leased Workers From Staffmasters, Including On-Site Workers from Cable Transport, Inc. Catawba, NC; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on October 13, 2011, applicable to workers of CommScope, Inc., Catawba Facility, a subsidiary of the Carlyle Group, including on-site leased workers from Staffmasters, Catawba, North Carolina. The workers are engaged in activities related to the production of coaxial cable and coax products for the cable television industry. The notice was published in the Federal Register on October 26, 2011 (76 FR 66329).

At the request of the State agency, the Department reviewed the certification for workers of the subject firm. New information shows that workers from Cable Transport, Inc. were employed on-site at the Catawba, North Carolina location of CommScope, Inc., Catawba Facility, a subsidiary of the Carlyle Group. The Department has determined that these workers were sufficiently under the control of CommScope, Inc., Catawba Facility, a subsidiary of the Carlyle Group to be considered leased workers.

The intent of the Department's certification is to include all workers of the subject firm adversely affected by increased company imports of coaxial cable and coax products for the cable television industry.

Based on these findings, the Department is amending this certification to include workers from Cable Transport, Inc. working on-site at the Catawba, North Carolina location of the subject firm.

The amended notice applicable to TA-W-80,307 is hereby issued as follows:

All workers of CommScope, Inc., Catawba Facility, a subsidiary of the Carlyle Group, including on-site leased workers from Staffmasters, including on-site workers from Cable Transport, Inc., Catawba, North Carolina (TA-W-80,307) and CommScope., Conover Facility, a subsidiary of the Carlyle Group, including remote workers reporting to Conover, North Carolina, including on-site leased workers from Staffmasters, Conover, North Carolina (TA-W-80,307A), who became totally or partially separated from employment on or after July 20, 2010, through October 13, 2013, are eligible to apply for adjustment assistance under Section 223 of the Trade Act of 1974, and are also eligible to apply for alternative trade adjustment assistance under Section 246 of the Trade Act of 1974.

Signed at Washington, DC, this 16th day of February 2012.
Del Min Amy Chen,
Certifying Officer, Office of Trade Adjustment Assistance.

[FR Doc. 2012-4582 Filed 2-27-12; 8:45 am]

BILLING CODE 4510-FN-P